DEPARTMENT OF AGRICULTURE

Rural Utilities Service

Announcement of Application Deadlines and Requirements for Section 313A Guarantees for Bonds and Notes Issued for Electrification or Telephone Purposes Loan Program for Fiscal Year (FY) 2016

AGENCY: Rural Utilities Service, USDA.

ACTION: Notice; correction.

SUMMARY: The Rural Utilities Service (RUS), an agency of the United States Department of Agriculture (USDA), published a document in the Federal Register of June 14, 2016, concerning the Announcement of Application Deadlines and Requirements for Section 313A Guarantees for Bonds and Notes Issued for Electrification or Telephone Purposes Loan Program for Fiscal Year (FY) 2016. The document contained incorrect dates.

FOR FURTHER INFORMATION CONTACT: For further information contact Amy McWilliams, Management Analyst, 1400 Independence Avenue SW., STOP 1568, Room 0226-S, Washington, DC 20250-1568. Telephone: (202) 205-8663; email: amy.mcwilliams@wdc.usda.gov.

Corrections

In the Federal Register of June 14, 2016, in the FR Doc. 2016-14009, make the following corrections to read as follows:

1. On page 38660, in the third column, correct the DATES caption to read:

DATES: Completed applications must be received by RUS no later than 5:00 p.m. Eastern Daylight Time (EDT) on Friday, July 15, 2016.

2. On page 38660, in the third column, in the Overview section, correct the Due Date for Applications caption to read:

Due Date for Applications: Applications must be received by RUS by 5:00 p.m. Eastern Daylight Time (EDT) on Friday, July 15, 2016.

3. On page 38661, column one, in the II. Award Information section, correct the Application Date caption to read:

Application Date: Applications must be received by RUS by no later than 5:00 p.m. Eastern Daylight Time (EDT) on Friday, July 15, 2016.

Dated: June 14, 2016.
Brandon McBride,
Administrator, Rural Utilities Service.

[FR Doc. 2016-14491 Filed 6-17-16; 8:45 am]

BILLING CODE P